ENVIRONMENTAL PROTECTION AGENCY

[EPA-HQ-OAR-2017-0430; FRL-9966-07-OAR]

Notice of Intent To Establish Voluntary Criteria for Radon Credentialing Organizations

AGENCY: Environmental Protection Agency (EPA).

ACTION: Notice of availability; opening of a 60-day public comment period.

SUMMARY: Since 1988, the Environmental Protection Agency (EPA) has administered a statutorily-mandated program under the Indoor Radon Abatement Act to reduce exposure to indoor radon by promoting awareness, testing, installation of radon mitigation systems in existing homes, and use of radon-resistant new construction techniques. EPA works with state programs, industry and the public to reduce human exposure to radon and thereby reduce deaths due to lung cancer. Access to quality service providers responsible for measuring indoor radon levels and conducting mitigation when necessary is essential to this mission. Historically, EPA operated a program, the Radon Proficiency Program (RPP), to identify qualified radon service providers, a service to assist consumers and states receiving indoor radon grants. Upon its discontinuation, two organizations qualified to be designated as responsible parties for credentialing radon service providers in the absence of a state-run process established under a state's regulatory requirements. Since that time, there has not been an ongoing and open evaluation process for organizations wanting to credential radon service providers. As the Federal agency responsible for implementing the national radon program, and in response to the needs of our state and private partners, EPA intends to establish voluntary criteria outlining a standard of competence for organizations that credential radon service providers. This notice provides interested parties with an opportunity to provide feedback on the Agency's proposed approach.

DATES: Comments must be received on or before October 23, 2017.

ADDRESSES: Submit your comments, identified by Docket ID No. EPA-HQ-OAR-2017-0430, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Katrin Kral, Indoor Environments Division, Office of Radiation and Indoor Air 6609T, Environmental Protection Agency, 1200 Pennsylvania Avenue NW., Washington, DC 20460; 202-343-9454; kral.katrin@epa.gov.

I. General Information

A. Does this action apply to me?

This notice is directed to stakeholders working to reduce exposure to indoor radon. It may, however, be of particular interest to those involved with promoting and/or conducting testing and installation of radon mitigation systems, including, but not limited to:

• Organizations credentialing radon service providers and other building construction and/or maintenance related providers.

• Radon service providers.

• Organizations who provide third-party accreditation to the ISO/IEC 17024:2012.

• Organizations representing state health and environmental programs, green building initiatives, and the radon services industry.

• State radon programs.

• Federal agencies who own, influence or control housing.

B. What should I consider as I prepare my comments for EPA?

1. Tips for Preparing Your Comments. When submitting comments, remember to:

• Identify the notice by docket number, subject heading, Federal Register date and page number.

• Follow directions—EPA may ask you to respond to specific questions or organize comments by including a specific reference.

• Explain why you agree or disagree; suggest alternatives and substitute language for your requested changes.

• Describe any assumptions and provide any technical information and/or data that you used.

• If you estimate potential costs or burdens, explain how you arrived at your estimate in sufficient detail to allow it to be reproduced.

• Illustrate your concerns with specific examples and suggest alternatives.

• Explain your views as clearly as possible, avoiding the use of profanity or personal threats.

• Make sure to submit your comments by the comment period deadline identified.

C. How can I learn more about this?

To learn more, please visit www.epa.gov/radon. Depending on interest and questions received, EPA may host a question and answer session via webinar during the comment period. Please visit the Web site regularly for updates.

D. Description of Terms Used in This Notice

Accreditation: Third party validation that a conformity assessment body complies with established standards. Under the International Organization for Standardization (ISO), accreditation refers to the formal recognition by an independent body, generally known as an accreditation body, that a conformity assessment body operates according to international standards.

Accreditation Body/Organization: Authoritative body that performs accreditation.

Certification: The provision by an independent body of written assurance (a certificate) that the product, personnel, service or system in question meets specific requirements.

Certification Scheme: Component of ISO/IEC 17024:2012 that outlines competence and other requirements related to specific occupational or skilled categories of persons including a scope of certification, job and task description (JTA), abilities (when applicable), prerequisites (when applicable), and a code of conduct (when applicable). Criteria for the initial certification and recertification must be part of the scheme and includes a description of the assessment methods, and the criteria for suspending and withdrawing the certification.

Competence: Ability to apply knowledge and skills to achieve intended results.

Conference of Radiation Control Program Directors (CRCPD): 501(c)(3) nonprofit non-governmental professional organization dedicated to radiation protection. CRCPD's primary membership is made up of radiation professionals in state and local government that regulate the use of radiation sources.

Credential: Recognition of qualification or competence issued to a person by an organization.

Credentialing: Term applied to processes used to designate that an individual, program, institution or product have met established standards set by an agent (governmental or non-governmental) recognized as qualified to carry out this task. Licensure, registration, accreditation, approval, certification, recognition or endorsement may be used to describe different credentialing processes.

Credentialing Organization, Certification Body: Third-party conformity assessment body operating certification schemes for persons under ISO/IEC 17024:2012. A certification body can be non-governmental or governmental with or without regulatory authority.

EPA Proficiency Program: Voluntary program established under 15 U.S.C. 2665(a)(2) and run by EPA that assessed the proficiency of individuals and organizations and granted them a listing according to their measurement or mitigation service capabilities. The Radon Measurement Proficiency (RMP) Program was established in 1986, followed by the Radon Contractor Proficiency (RCP) Program in 1989. These two programs were consolidated into the Radon Proficiency Program (RPP) in 1995.

Guidance on Federal Conformity Assessment (15 CFR part 287): Provides guidance for each Federal agency to use in evaluating the efficacy and efficiency of its conformity assessment activities. Each agency should coordinate its conformity assessment activities with those of other appropriate government agencies and with those of the private sector to reduce unnecessary duplication. The guidance is intended to help Federal agencies improve the management and coordination of their own conformity assessment activities with respect to other government entities and the private sector.

International Electrotechnical Commission (IEC): International organization that prepares and publishes international standards for all electrical, electronic and related technologies.

Indoor Radon Abatement Act (IRAA; 1988): Subchapter III of the Toxic Substances Control Act, or TSCA. Provides the authority for EPA's indoor radon activities.

International Organization for Standardization (ISO): Independent, non-governmental international organization with a membership of 161 national standards bodies. Through its members, it brings together experts to share knowledge and develop voluntary, consensus-based, market relevant international standards that support innovation and provide solutions to global challenges.

ISO/IEC: Joint technical committee of the International Organization for Standardization (ISO) and the International Electrotechnical Commission (IEC). Its purpose is to develop, maintain and promote voluntary consensus standards.

ISO/IEC 17024:2012, Conformity assessment: General requirements for bodies operating certification of persons: Voluntary international consensus standard containing principles and requirements for a body certifying persons against specific requirements, and includes the development and maintenance of a certification scheme for persons.

Job Task Analysis: Foundational requirement of ISO/IEC 17024:2012, included with the certification scheme. Helps to identify the core knowledge areas, critical work functions, and/or skills that are common across the representative sampling of current practitioners.

License: An official document that gives you permission to own, do, or use something.

The National Technology Transfer and Advancement Act (NTTAA): Directs Federal agencies with respect to their use of and participation in the development of voluntary consensus standards. The Act directs Federal agencies to adopt voluntary consensus standards, wherever possible, in lieu of creating proprietary, non-consensus standards. The Act also directs the National Institute of Standards and Technology (NIST) to coordinate the conformity assessment activities of Federal agencies, as well as state and local governments with the private sector in order to reduce unnecessary duplication and complexity of conformity assessment schemes.

Office of Management and Budget Circular A-119 (OMB A-119): Establishes policies on Federal use and development of voluntary consensus standards and on conformity assessment activities.

Personnel Certification: Voluntary process by which a non-governmental entity grants a time-limited recognition and use of a credential to an individual after verifying that he or she has met predetermined and standardized criteria.

Radon Service Providers (also referred to as “radon providers” or “providers”): Individuals who perform measurement and/or mitigation of radon.

State Indoor Radon Grant (SIRG, also referred to as “indoor radon grants”): States and tribes receive grant funds from EPA that help finance their radon risk reduction programs; recipients must provide a minimum of 40% in matching funds. The Indoor Radon Abatement Act provides statutory authority for EPA to run the grant program under 15 U.S.C. 2666 (a-j).

Voluntary Consensus Standards (VCS): Standard developed or adopted by voluntary consensus standards bodies, through the use of a voluntary consensus standards development process, as defined in OMB A-119.

II. Background

A. What authority does EPA have to establish voluntary criteria for radon credentialing organizations?

The 1988 Indoor Radon Abatement Act (See Toxic Substances Control Act, Title III; 15 U.S.C. 2661-2671) addresses risks associated with indoor radon levels and establishes provisions that focus on voluntary activities, including education and grant and technical assistance to states for radon programs. Under 15 U.S.C. 2665(a)(2), EPA was granted authority to operate a voluntary proficiency program for rating, among other things, the effectiveness of radon measurement and mitigation devices and methods, and “the effectiveness of private firms and individuals offering radon-related architecture, design, engineering, measurement, and mitigation services.” Pursuant to 15 U.S.C. 2666(h)(3), state grant recipients are required to maintain, and make available to the public, a list of firms and individuals receiving a passing rating under such a program.

B. What is the history of EPA's voluntary Radon Proficiency Program for radon service providers?

In February 1986, EPA established the Radon Measurement Proficiency (RMP) Program to assist consumers in identifying organizations capable of providing reliable radon measurement analysis services. The Radon Contractor Proficiency (RCP) Program was established in 1989 to evaluate the proficiency of radon mitigators in residences and provide information to the public on proficient mitigators. In 1994, EPA began working to consolidate the RMP and RCP into one streamlined program to better meet industry needs and reduce costs. The consolidated program officially became the Radon Proficiency Program (RPP) in October 1995.

In response to stakeholder feedback as part of the RPP development-process, the Agency also began investigating the feasibility of transitioning oversight of the proficiency program away from EPA. The Agency tasked the Conference of Radiation Control Program Directors (CRCPD) with drafting a document containing the necessary components of a proficiency program. As part of this effort, a series of stakeholder meetings were held in 1997. Feedback was collected in five key areas critical to discontinuation of the EPA's RPP: (1) Radon tester; (2) radon mitigator; (3) approval and accreditation requirements for radon and radon decay product measurement devices, radon chambers, and radon laboratories; (4) the operational board and committees; and (5) the transition to private proficiency programs.

Ultimately, CRCPD developed a final document outlining a plan for transitioning oversight of the proficiency program outside of the Federal government, entitled: “Criteria for Certification of Radon Service Providers, the Accreditation of Radon Chambers and Laboratories, and the Approval of Measurement Devices.” This plan was used to conduct a one-time evaluation and identify two organizations that sufficiently addressed components of EPA's RPP in the early 2000s. These two organizations—the National Radon Proficiency Program (NRPP; initially affiliated with the National Environmental Health Association and currently affiliated with the American Association of Radon Scientists and Technologists, or AARST) and the National Radon Safety Board (NRSB)—became responsible for credentialing radon service providers in the absence of a state run process established under a state's regulatory requirements. This service assisted consumers by identifying qualified radon providers. In addition, it assisted states receiving indoor radon grants, which are required to maintain and make available a list of qualified service providers to the public. Since the discontinuation of the RPP, the Agency has relied on NRPP, NRSB and state run certification programs to provide the national proficiency platform in the radon marketplace.

C. What is the framework for EPA's consideration of voluntary consensus standards and conformity assessment activities?

Taken together, the National Technology Transfer and Advancement Act (NTTAA, Pub. L. 104-113), Office of Management and Budget Circular A-119 (OMB A-119) and Guidance on Federal Conformity Assessment (15 CFR part 287) direct Federal agencies to use voluntary consensus standards (VCS) wherever possible as the basis of regulation and other programs, to participate in the development of VCS, and to coordinate conformity assessment activities (testing, certification, etc.) with the private sector to avoid duplication. OMB A-119 outlines considerations Federal agencies should make when addressing the need for conformity assessment, and considerations agencies should take into account when designing conformity assessment programs.

Personnel certification has become an important element of verifying the competence of an increasingly mobile and global workforce. In response to this growing need, a joint technical committee of the International Organization for Standardization and the International Electrotechnical Commission (the ISO/IEC) developed an international standard to establish uniform procedures for certifying the competence of personnel in different occupations or professions. The ISO/IEC 17024:2012 standard is designed to help ensure that personnel certification programs run by credentialing organizations (also referred to as a certifying body) operate in a consistent, comparable, impartial and reliable manner. In addition to ensuring the validity of individual certification programs, the ISO/IEC standard is intended to help ensure competence and quality of a workforce and promote consumer and public confidence. Key areas addressed in the standard include: The structure and governance of the certifying body and the characteristics of the certification program as it relates specifically to a job type (e.g., a certification scheme) and the assessment and recertification requirements.

To verify compliance with ISO/IEC standard 17024:2012, credentialing organizations may seek accreditation from a third party. An organization accredited by a third party demonstrates ongoing compliance with a set of business standards and the necessary core competencies to perform the certification of persons and/or training functions. As a requirement of continuous accreditation recognition, an organization must demonstrate ongoing compliance with ISO/IEC standard 17024:2012 by periodically maintaining accreditation.

III. Subject and Purpose of This Notice

Radon exposure causes approximately 21,000 lung cancer deaths every year and is the leading environmental cause of cancer deaths. Many state programs and private industry stakeholders have, for years, asserted their belief that EPA should maintain a standard of competence for organizations credentialing radon service providers that reflect current industry standards and best practices. There is no current formal process to assess quality and competence of organizations wanting to credential radon service providers. The Agency believes it is necessary to establish an ongoing and open evaluation process moving forward and anticipates that it will take two to four years to establish a process and ensure ample opportunities for stakeholder involvement. Criteria establishing a standard of competence for organizations credentialing radon service provides will help ensure continued and sustained access to a qualified workforce.

EPA recently issued a special term and condition to SIRG grantees clarifying guidance in the State and Tribal Indoor Radon Grants Program Guidance and Handbook https://www.epa.gov/sites/production/files/2014-08/documents/guidance_and_handbook.pdf related to satisfying requirements for 15 U.S.C. 2666(h)(3). Specifically, the Agency clarified that, to remain in compliance with 15 U.S.C. 2666(h)(3) requirements, states receiving SIRG funding must maintain and provide the public with a list of only those radon service providers who are credentialed either through:

(1) An existing state-run process established under a state's regulatory requirements for credentialing radon service providers (e.g., state license), or

(2) one of the two currently-recognized national radon proficiency programs (i.e., NRPP or NRSB).

The term and condition will remain in effect until the Agency issues voluntary criteria, at which time, states receiving SIRG funding would list only those radon service providers credentialed by organizations meeting the criteria.

A. What specific comments are being sought?

While all comments regarding any aspect related to the development of voluntary criteria for radon credentialing organizations are welcomed, comments on the following key areas are specifically requested.

1. Overall Approach

While EPA cannot require that radon credentialing bodies take any particular action in order to conduct business, EPA does have authority to require that states receiving indoor radon grants list only providers who meet certain standards of competence. By establishing criteria for organizations credentialing radon service providers, EPA would help states ensure high-quality radon services are available to their citizens. States receiving SIRG funding would be required to list only radon service providers who are certified by organizations meeting these criteria (possibly including state-run credentialing programs).

To satisfy the criteria, organizations that credential radon service providers would need to demonstrate and maintain compliance with ISO/IEC standard 17024:2012 through independent, third party accreditation. The voluntary criteria would specify a timeframe for organizations to demonstrate compliance with ISO/IEC 17024:2012 through third party accreditation.

As a condition of continuous accreditation recognition, an organization would need to demonstrate ongoing compliance with ISO/IEC 17024:2012 by periodically reapplying and earning accreditation.

Credentialing organizations accredited to ISO/IEC 17024:2012 have to ensure that certificate holders meet requirements outlined in the certification scheme. The credentialing organization may use recertification to bring those who do not meet the current requirements into compliance. In this case, recertification may be required for service providers previously credentialed by one of the two national credentialing organizations.

EPA is seeking comments on the overall feasibility, appropriateness and potential impacts of these criteria, in particular as they relate to: Time-frame for demonstrating compliance through third-party accreditation and options for a phased-in approach, maintaining continuous accreditation, and recertification as a means to bring existing certificate holders into compliance.

2. Application of Voluntary Criteria to State-Run Programs

Currently, approximately twenty-three states have regulatory requirements in place for credentialing of radon service providers and implement a process accordingly (e.g., state license). While some of these states require certification by one of the two currently recognized national credentialing organizations (i.e., NRPP and/or NRSB), there are states operating processes that do not require this certification.

EPA is seeking comments on the feasibility, appropriateness and potential impacts of requiring states that operate independent programs (i.e., currently do not require certification by one of two recognized national credentialing organizations) to meet the criteria if receiving SIRG funding.

3. Requirements for Accreditation Organizations

Organizations providing independent, third party accreditation may be required to demonstrate compliance with ISO/IEC 17011:2004 as a signatory of the International Accreditation Forum's Multilateral Recognition Agreement, or MRA.

EPA is seeking feedback on the value of including conditions for organizations providing independent, third party accreditation.

4. Development of ISO/IEC 17024:2012 Program-Related Components

To help reduce the burden to credentialing organizations seeking accreditation to the ISO/IEC 17024:2012 and to standardize competency and testing requirements for radon service providers, EPA recognizes that there may be value in the Agency supporting development of the certification scheme, a requirement of ISO/IEC 17024:2012. It should be noted that the choice of what role EPA plays ultimately will depend on both what the community needs and what resources the Agency can sustainably support.

EPA is seeking comments on the feasibility, appropriateness, and potential impacts of each possible scenario presented below:

(a) EPA develops basic framework for credentialing organizations to follow.

EPA would define parameters for the certification scheme (e.g., scope(s) of practice, use of existing American National Standards Institute/American Association of Radon Scientists and Technologists (ANSI/AARST) measurement and mitigation voluntary consensus standards when developing the job task analysis (JTA), recertification requirements).

Credentialing organizations might enter into a Memorandum of Understanding with EPA committing to develop and maintain a certification scheme in compliance with specified parameters.

(b) EPA supports development of initial certification scheme.

EPA would support development of the initial certification scheme and then would transfer ownership of the scheme to a third party or individual credentialing organization(s) after a specified time-frame (e.g., five years). In this case, new scheme owners might sign a licensing agreement transferring ownership of the certification scheme and stipulating conditions for use and maintenance of the scheme. For example, the licensing agreement may specify that the scheme owner may only make changes to the scheme that are deemed more stringent.

(c) EPA supports development and maintenance of certification scheme.

EPA would retain ownership of the certification scheme, including development and maintenance. Organizations seeking accreditation to ISO/IEC 17024:2012 might enter into a licensing agreement with the Agency which would specify requirements for use of the certification scheme.

5. Scope of This Effort

EPA's RPP addressed labs and devices in addition to radon testing and mitigation service providers. The proposed approach outlined above does not directly address labs and devices. If the Agency were to address labs, a different ISO/IEC standard would apply (17025) and would require an independent process. Device requirements for certified radon service providers will be incorporated within the scope of this effort. (e.g., device must have demonstrated compliance with the voluntary consensus standard MS-PC 2015, Performance Specifications for Instrumentation Systems Designed to Measure Radon Gas in Air).

EPA is seeking comments on the proposed scope for this effort, including the planned approach for including devices. Comments are also welcomed on job titles and scopes that should be included for radon testing and mitigation providers.

Dated: August 3, 2017.
David Rowson,
Director, Indoor Environments Division.

[FR Doc. 2017-17860 Filed 8-22-17; 8:45 am]

BILLING CODE 6560-50-P